DEPARTMENT OF THE INTERIOR

Office of Surface Mining Reclamation and Enforcement

30 CFR Part 920

[SATS No. MD-056-FOR; Docket ID: OSM 2010-0008]

Maryland Regulatory Program

AGENCY: Office of Surface Mining Reclamation and Enforcement (OSM), Interior.

ACTION: Proposed rule; extension of comment period and notice of public hearing.

SUMMARY: We are reopening and extending the public comment period and will be holding a public hearing on the proposed amendment to the State of Maryland's approved regulatory program (the “Maryland program”) published on January 28, 2011. The comment period is being reopened and extended in order to afford the public more time to comment and to allow enough time to hold a public hearing requested by a representative of the Sierra Club. We are also notifying the public of the date, time, and location for the public hearing. Maryland is proposing to add provisions to its program to regulate coal combustion byproducts (CCBs) and to establish requirements pertaining to the generation, storage, handling, processing, disposal, recycling, beneficial use, or other use of CCBs within the State.

DATES: We will accept written comments until 4 p.m., local time on March 28, 2011. The public hearing will be held on March 21, 2011, at 6 p.m. local time.

ADDRESSES: You may submit comments, identified by “MD-056-FOR; Docket ID: OSM-2010-0008” by either of the following two methods:

Federal eRulemaking Portal: http://www.regulations.gov. The proposed rule has been assigned Docket ID: OSM-2010-0008. If you would like to submit comments through the Federal eRulemaking Portal, go to http://www.regulations.gov and follow the instructions.

Mail/Hand Delivery/Courier: Mr. George Rieger, Chief, Pittsburgh Field Division,Office of Surface Mining Reclamation and Enforcement, Three Parkway Center, Suite 300, Pittsburgh, PA 15220.

Instructions: For detailed instructions on submitting comments and additional information on the rulemaking process, see III. Public Comment Procedures in the SUPPLEMENTARY INFORMATION section of the proposed rule published on January 28, 2011.

Public Hearing: The public hearing will be held at the Annapolis Marriot Waterfront Hotel, 80 Compromise Street, Annapolis, Maryland 21401 on March 21, 2011, at 6 p.m. local time.

FOR FURTHER INFORMATION CONTACT: George Rieger, Chief, Pittsburgh Field Division,Telephone: (412) 937-2153. E-mail: grieger@osmre.gov.

SUPPLEMENTARY INFORMATION: On January 28, 2011, (76 FR 5103) we published a proposed rule that would revise the Maryland program. The revisions would add regulations to the Maryland program to regulate coal combustion byproducts and to establish requirements pertaining to the generation, storage, handling, processing, disposal, recycling, beneficial use, or other use of coal combustion byproducts (CCB) within the State. In total, these regulations pertain to all CCB activities in the State, not just surface coal mining and reclamation operations. However, a section of the added regulations specifically pertains to surface coal mining and reclamation operations and is proposed to be part of Maryland's federally approved state program. The regulation specific to surface coal mining and reclamation operations has been added as a new regulation, Regulation .08 under COMAR 26.20.24, Special Performance Standards.

Specifically, Maryland's Regulation .08 Utilization of Coal Combustion Byproducts, will include paragraphs A-H on the Purpose and Scope, Conditions for Utilization, and Testing and Monitoring. Additionally, Maryland is adding a Coal Combustion Byproducts Utilization Request requirement that will require a solids analysis of the CCBs and a Toxicity Characteristics Leaching Procedure (TCLP) leachate analysis of the CCBs. Maryland may also impose additional controls or conditions on the use of CCBs as it sees fit for the protection of human health and the environment.

On February 14, 2011, (Administrative Record Number MD-588-010), we received a request from an attorney representing the Maryland Chapter of the Sierra Club to extend the comment period and to hold a public hearing on the amendment. We are granting the request to extend the public comment period to afford the public more time to comment on the amendment and to allow enough time to schedule and hold the hearing. The date, time and location for the public hearing may be found under DATES and ADDRESSES above.

The hearings will be open to anyone who would like to attend and/or testify. The primary purpose of the public hearing is to obtain your comments on the proposed rule so that we can prepare a complete and objective analysis of the proposal. The purpose of the hearing officer is to conduct the hearing and receive the comments submitted. Comments submitted during the hearing will be responded to in the preamble to the final rule, not at the hearing. We appreciate all comments but those most useful and likely to influence decisions on the final rule will be those that either involve personal experience or include citations to, and analyses of, the Surface Mining Control and Reclamation Act of 1977, its legislative history, its implementing regulations, case law, other State or Federal laws and regulations, data, technical literature, or relevant publications.

At the hearing, a court reporter will record and make a written record of the statements presented. This written record will be made part of the administrative record for the rule. If you have a written copy of your testimony, we encourage you to give us a copy. It will assist the court reporter in preparing the written record. Any disabled individual who needs reasonable accommodation to attend the public hearing is encouraged to contact the person listed under FOR FURTHER INFORMATION CONTACT.

Dated: February 18, 2011.
Thomas D. Shope,
Regional Director, Appalachian Region.

[FR Doc. 2011-5375 Filed 3-9-11; 8:45 am]

BILLING CODE 4310-05-P